DEPARTMENT OF COMMERCE

International Trade Administration

[A-570-979]

Crystalline Silicon Photovoltaic Cells, Whether or Not Assembled Into Modules, From the People's Republic of China: Final Results of the Changed Circumstances Review

AGENCY: Enforcement and Compliance, International Trade Administration, Department of Commerce.

SUMMARY: On October 21, 2015, the Department of Commerce (the “Department”) published a notice of preliminary results of a changed circumstance review (“CCR”) of the antidumping duty (“AD”) order on crystalline silicon photovoltaic cells, whether or not assembled into modules (“solar cells”), from the People's Republic of China (“PRC”).¹ Based on our analysis of the comments from interested parties, we continue to find that Neo Solar Power Corporation (“Neo Solar”) is not the successor-in-interest to DelSolar Co., Ltd. (“DelSolar Taiwan”) for purposes of determining AD liability in this proceeding for these final results and, as such, is subject to the PRC-wide entity cash deposit rate with respect to entries of subject merchandise.

¹ See Crystalline Silicon Photovoltaic Cells, Whether or Not Assembled Into Modules, from the People's Republic of China: Preliminary Results of the Changed Circumstances Review, 80 FR 63743 (October 21, 2015) (“Preliminary Results”). We note that although the request was submitted on behalf of DelSolar Taiwan, the purported predecessor company, the request also states that DelSolar Taiwan no longer exists as a legal entity.

DATES: Effective: February 25, 2016.

FOR FURTHER INFORMATION CONTACT: Erin Kearney, AD/CVD Operations, Office IV, Enforcement and Compliance, International Trade Administration, U.S. Department of Commerce, 14th Street and Constitution Avenue NW., Washington, DC 20230; telephone: (202) 482-0167.

SUPPLEMENTARY INFORMATION:

Background

The Department initiated this CCR on March 18, 2015, and published the Preliminary Results on October 21, 2015.² For a description of events that have occurred since the Preliminary Results, see the Issues and Decision Memorandum.³ The Issues and Decision Memorandum is a public document and is on file electronically via Enforcement and Compliance's Antidumping and Countervailing Duty Centralized Electronic Service System (“ACCESS”). ACCESS is available to registered users at http://access.trade.gov, and is available to all parties in the Central Records Unit, Room B8024 of the main Department of Commerce building. In addition, a complete version of the Issues and Decision Memorandum can be accessed directly at http://enforcement.trade.gov/frn/index.html. The signed Issues and Decision Memorandum and the electronic versions of the Issues and Decision Memorandum are identical in content.

² See Crystalline Silicon Photovoltaic Cells, Whether or Not Assembled Into Modules, from the People's Republic of China: Initiation of Changed Circumstances Review, 80 FR 15568 (March 24, 2015) (“Initiation Notice”); see also Preliminary Results.

³ See “Issues and Decision Memorandum for the Final Results of the Antidumping Duty Changed Circumstances Review of Crystalline Silicon Photovoltaic Cells, Whether or Not Assembled Into Modules, from the People's Republic of China: Neo Solar Power Corporation and DelSolar Co., Ltd.,” dated concurrently with and hereby adopted in this notice.

As explained in the memorandum from the Acting Assistant Secretary for Enforcement and Compliance, the Department has exercised its discretion to toll all administrative deadlines due to the recent closure of the Federal Government. All deadlines in this segment of the proceeding have been extended by four business days. The revised deadline for the final results of this review is now February 18, 2016.⁴

⁴ See Memorandum to the Record from Ron Lorentzen, Acting Assistant Secretary for Enforcement and Compliance, regarding “Tolling of Administrative Deadlines As a Result of the Government Closure During Snowstorm Jonas,” dated January 27, 2016.

Scope of the Order

The merchandise covered by this order is crystalline silicon photovoltaic cells, and modules, laminates, and panels, consisting of crystalline silicon photovoltaic cells, whether or not partially or fully assembled into other products, including, but not limited to, modules, laminates, panels and building integrated materials. Merchandise covered by this order is currently classified in the Harmonized Tariff System of the United States (“HTSUS”) under subheadings 8501.61.0000, 8507.20.80, 8541.40.6020, 8541.40.6030, and 8501.31.8000. These HTSUS subheadings are provided for convenience and customs purposes; the written description of the scope of this order is dispositive. A complete description of the scope of the order is contained in the Issues and Decision Memorandum.⁵

⁵ See “Issues and Decision Memorandum for the Final Results of the Antidumping Duty Changed Circumstances Review of Crystalline Silicon Photovoltaic Cells, Whether or Not Assembled Into Modules, from the People's Republic of China: Neo Solar Power Corporation and DelSolar Co., Ltd.,” dated concurrently with and hereby adopted in this notice.

Analysis of Comments Received

All issues raised by interested parties in the case briefs are addressed in the Issues and Decision Memorandum. A list of the issues addressed in the Issues and Decision Memorandum is appended to this notice.

Final Results of the Changed Circumstances Review

Upon review of the comments received, the Department continues to find based upon the totality of the circumstances that material changes occurred after DelSolar Taiwan merged with, and became part of, Neo Solar, including significant changes in management, the board of directors, and ownership and, further, that Neo Solar did not demonstrate that its operations, with respect to the subject merchandise, were materially similar to the operations of DelSolar Taiwan pertaining to supplier relationships and customer base, as discussed in the Preliminary Results and the Issues and Decision Memorandum. Therefore, in these final results, the Department continues to find that Neo Solar is not the successor-in-interest to DelSolar Taiwan for purposes of antidumping duty liability in this proceeding.

Instructions to U.S. Customs and Border Protection

As a result of this determination, the Department finds that Neo Solar is subject to the cash deposit rate currently assigned to the PRC-wide entity with respect to the subject merchandise (i.e., 238.95 percent).⁶ Consequently, the Department will instruct U.S. Customs and Border Protection to continue suspension of liquidation and to collect estimated antidumping duties for all shipments of subject merchandise produced by DelSolar Wujiang and exported by Neo Solar at the current cash deposit rate currently applicable to such entries, i.e., the cash deposit rate of 238.95 percent assigned to the PRC-wide entity.⁷ This cash deposit requirement shall remain in effect until further notice.

⁶ See Crystalline Silicon Photovoltaic Cells, Whether or Not Assembled Into Modules, From the People's Republic of China: Final Results of Antidumping Duty Administrative Review and Final Determination of No Shipments; 2012-2013, 80 FR 40998 (July 14, 2015).

⁷ Id.

Notification to Parties

This notice is the only reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

The Department is issuing and publishing these results in accordance with sections 751(b)(1) and 777(i) of the Tariff Act of 1930, as amended, and 19 CFR 351.216 and 19 CFR 351.221(c)(3)(i).

Dated: February 17, 2016.
Ronald K. Lorentzen,
Acting Assistant Secretary for Enforcement and Compliance.

Appendix

List of Topics Discussed in the Issues and Decision Memorandum

I. Summary

II. Background

III. Scope of the Order

IV. Discussion of Issues

V. Summary of Findings

VI. Recommendation

[FR Doc. 2016-04061 Filed 2-24-16; 8:45 am]

BILLING CODE 3510-DS-P